FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011516-009.

Title: Voluntary Intermodal Sealift Discussion Agreement.

Parties: American President Lines, Ltd.; Hapag-Lloyd USA LLC; Crowley Liner Services, Inc.; Crowley Marine Services, Inc.; Matson Navigation Company; Farrell Lines, Inc. and American Roll-On Roll-Off Carrier.

Filing Party: Wayne R. Rohde, Esq.; Cozen O'Connor; 1200 Nineteenth Street NW., Washington, DC 20036.

Synopsis: The agreement would add Liberty Global Logistics LLC as a party to the agreement, and revise the address of Hapag-Lloyd USA.

Agreement No.: 012381.

Title: NYK/Waterman Steamship Space Charter Agreement.

Parties: Nippon Yusen Kaisha and Waterman Steamship Corporation.

Filing Party: Robert Shababb; NYK Line (North America) Inc.; 300 Lighting Way, 5th Floor; Secaucus, NJ 07094.

Synopsis: The agreement would authorize the parties to charter space from one another in the trade between the U.S. and Europe, the Middle East and Asia.

Agreement No.: 012382.

Title: Crowley/King Ocean Space Charter Agreement.

Parties: Crowley Caribbean Services, LLC and King Ocean Services Limited, Inc.

Filing Party: Wayne R. Rohde, Esq.; Cozen O'Connor; 1200 19th Street NW., Washington, DC 20036.

Synopsis: The agreement would authorize King Ocean to charter space to Crowley in the trade between the U.S. East Coast on the one hand and Aruba, Bonaire and Curacao on the other hand.

By Order of the Federal Maritime Commission.
Dated: December 29, 2015.
Rachel E. Dickon,
Assistant Secretary.

[FR Doc. 2015-33083 Filed 1-4-16; 8:45 am]

BILLING CODE 6731-AA-P